NUCLEAR REGULATORY COMMISSION

Public Comment on Inspections, Tests, Analyses and Acceptance Criteria (ITAAC)

The U.S. Nuclear Regulatory Commission (NRC) staff is seeking public comment on ITAAC that are required for issuance of combined licenses (COLs) for nuclear power facilities under Title 10 of the Code of Federal Regulations (10 CFR) Part 52, Subpart C. Subpart C of 10 CFR Part 52 sets forth a process for issuing combined licenses (COLs) for nuclear power facilities. A COL authorizes construction and conditional operation of a nuclear power facility. 10 CFR Section 52.79(c) requires that the COL application include ITAAC that are necessary and sufficient to demonstrate that the facility has been constructed and will operate in conformity with the COL, the Atomic Energy Act of 1954, and the Commission's regulations. 10 CFR 52.103(g) requires that the Commission find that the acceptance criteria in the ITAAC have been met before a facility can be authorized to operate. The staff is seeking public comment on whether or not COL applications should contain ITAAC on operational programs such as security, training, and emergency planning (programmatic ITAAC).

In SECY-00-0092, “Combined License Review Process” dated April 20, 2000, the staff provided a basis for its stated position that “programmatic” ITAAC are necessary to meet the requirements of 10 CFR Part 52 and the Atomic Energy Act of 1954. In the staff requirements memorandum (SRM) on SECY-00-0092 dated September 6, 2000, the Commission provided guidance to the staff in this area and stated that “in connection with the Part 52 rulemaking, the staff should specifically seek comment on and continue to work with stakeholders on the need for and scope of the ITAAC for programmatic areas.” In accordance with the Commission direction, the NRC staff is seeking comments on the need for and scope of ITAAC for programmatic areas. Comments received will be evaluated by the staff.

In a letter dated May 14, 2001, to Chairman Meserve the Nuclear Energy Institute (NEI) provided its position that COL applications should not contain ITAAC on operational programs. NEI's letter contains a paper that summarizes its position. NEI requests an “early resolution of this issue to allow licensees, the NRC, and other stakeholders to be clear on how key Part 52 requirements on the scope of COL ITAAC are to be met.”

The documents discussed above (i.e., SECY-00-0092, the SRM on SECY-00-0092, and the May 14, 2001, letter from NEI) are available in NRC's Public Document Room. Documents may be examined, and/or copied for a fee, at the NRC's Public Document Room, located at One White Flint North, 11555 Rockville Pike (first floor), Rockville, Maryland. These documents are also accessible electronically from the ADAMS Public Library component on the NRC Web site, http://www.nrc.gov (the Electronic Reading Room). Questions and comments should be directed to Joseph M. Sebrosky, Mail Stop O-11 F1, U.S. Nuclear Regulatory Commission, Washington, D.C. 20555-001, E-mail:jms3@nrc.gov or by telephone at 301-415-1132. Comments should be submitted within 45 days of the publication of this notice.

Dated at Rockville, Maryland this 19th day of June 2001.
For the Nuclear Regulatory Commission.
Richard J. Barrett,
Acting Director, Future Licensing Organization, Office of Nuclear Reactor Regulation.

[FR Doc. 01-15817 Filed 6-22-01; 8:45 am]

BILLING CODE 7590-01-P